DEPARTMENT OF ENERGY

Federal Energy Regulatory Commission

[Docket No. CP02-416-000]

Williams Gas Pipelines Central, Inc.; Notice of Application

August 8, 2002.

On July 31, 2002, Williams Gas Pipelines Central, Inc. (Williams), 3800 Frederica Street, Owensboro, Kentucky 42301, filed an application pursuant to Section 7(c) of the Natural Gas Act (NGA), as amended, and the Federal Energy Regulatory Commission's (Commission) Rules and Regulations thereunder. Williams requests authorization to: construct 15.67 miles of pipeline; and, perform piping upgrades at a compressor station. The facilities are necessary to provide additional incremental firm transportation service of 66,800 Decatherms per Day(Dth/d) for electric power generation expansion and LDC load growth, all as more fully set forth in the application which is on file with the Commission and open to public inspection. This filing is available for review at the Commission in the Public Reference Room or may be viewed on the Commission's Web site at http://www.ferc.gov using the “FERRIS” link. Enter the docket number excluding the last three digits in the docket number field to access the document. For assistance, call (202) 502-8222 or for TTY, (202) 208-1659. Following its open season, Williams received binding requests from Empire District Electric Co.(63,800 Dth/d) and Kansas Gas Service(3,000 Dth/d) for 15 years of firm transportation service.

Williams requests authority to: (1) Construct approximately 15.67 miles of 20-inch pipeline from the Southern Trunk 20-inch Loop Line “FR” in Cherokee County, Kansas to Jasper County, Missouri; and, (2) install piping upgrades at the Saginaw compressor station in Newton County, Missouri to increase maximum allowable operating pressure from 820 psig to 900 psig. The cost of these modifications is estimated to be approximately $10,500,000. Further, Williams requests that the Commission determine that costs of the proposed facilities should be rolled-in with existing facility costs in their next general rate case.

Questions regarding the application may be directed to David N. Roberts, Manager of Certificates and Tariffs, P.O. Box 20008, Owensboro, Kentucky 42304, or call (270) 688-6712.

There are two ways to become involved in the Commission's review of this project. First, any person wishing to obtain legal status by becoming a party to the proceedings for this project should, on or before August 28, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the nonparty commenters will not receive copies of all documents filed by other parties or issued by the Commission (except for the mailing of environmental documents issued by the Commission) and will not have the right to seek court review of the Commission's final order.

If the Commission decides to set the application for a formal hearing before an Administrative Law Judge, the Commission will issue another notice describing that process. At the end of the Commission's review process, a final Commission order approving or denying a certificate will be issued.

Comments, protests and interventions may be filed electronically via the Internet in lieu of paper. The Commission strongly encourages electronic filings. See, 18 CFR 385.2001(a)(1)(iii) and the instructions on the Commission's Web site under the “e-Filing” link. The Commission strongly encourages electronic filings.

Linwood A. Watson, Jr.,
Deputy Secretary.

[FR Doc. 02-20533 Filed 8-13-02; 8:45 am]

BILLING CODE 6717-01-P